DEPARTMENT OF COMMERCE

International Trade Administration

[A-570-912]

Certain New Pneumatic Off-the-Road Tires From the People's Republic of China: Final Results of Antidumping Duty Administrative Review and Final Rescission, in Part; 2010-2011

AGENCY: Import Administration, International Trade Administration, Department of Commerce.

SUMMARY: On October 9, 2012, the Department of Commerce (“Department”) published the preliminary results of the 2010-2011 administrative review of the antidumping duty order on certain new pneumatic off-the-road tires (“OTR tires”) from the People's Republic of China (“PRC”).¹ The period of review (“POR”) is September 1, 2010, through August 31, 2011. This review covers one exporter: Hangzhou Zhongce Rubber Co., Ltd. (“Zhongce”).

¹ See Certain New Pneumatic Off-the-Road Tires from the People's Republic of China: Antidumping Duty Administrative Review; 2010-2011, 77 FR 61387 (October 9, 2012) (“Preliminary Results”).

We invited interested parties to comment on our Preliminary Results. Based on our analysis of the comments received, we made certain changes to our margin calculations for Zhongce. The final dumping margin for this review is listed in the “Final Results Margin” section below.

DATES: Effective Date: April 16, 2013.

FOR FURTHER INFORMATION CONTACT: Andrew Medley or Eugene Degnan, AD/CVD Operations, Office 8, Import Administration, International Trade Administration, U.S. Department of Commerce, 14th Street and Constitution Avenue NW., Washington, DC 20230; telephone: (202) 482-4987 and (202) 482-0414, respectively.

Background

On October 9, 2012, the Department published its Preliminary Results of the antidumping duty administrative review of OTR tires from the PRC. Zhongce submitted publicly available information regarding surrogate values on November 7, 2012. Petitioner and Zhongce submitted case briefs on November 19, 2012, and rebuttal briefs on December 3, 2012.

Scope of the Order

The merchandise covered by this order includes new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. The HTSUS subheadings are provided for convenience and customs purposes only. A full description of the scope of the order is contained in the Memorandum from Christian Marsh, Deputy Assistant Secretary for Antidumping and Countervailing Duty Operations, to Paul Piquado, Assistant Secretary for Import Administration, titled, “Certain New Pneumatic Off-the-Road Tires from the People's Republic of China: Issues and Decision Memorandum for the Final Results of the 2010-2011 Administrative Review of the Antidumping Duty Order,” dated April 9, 2013 (“Issues and Decision Memorandum”). The written product description of the scope of the order is dispositive.²

² See Certain New Pneumatic Off-the-Road Tires From the People's Republic of China: Notice of Amended Final Affirmative Determination of Sales at Less Than Fair Value and Antidumping Duty Order, 73 FR 51624 (September 4, 2008).

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Import Administration's Antidumping and Countervailing Duty Centralized Electronic Service System (“IA ACCESS”). Access to IA ACCESS is available in the Central Records Unit, room 7046 of the main Department of Commerce building. In addition, a complete version of the Issues and Decision Memorandum can be accessed directly on the Internet at http://www.trade.gov/ia/. The paper copy and electronic version of the Issues and Decision Memorandum are identical in content.

Final Rescission, in Part, of the Administrative Review

In the Preliminary Results, the Department stated its intent to rescind the review with respect to 78 companies that are part of the PRC-wide entity, and for which a review request was withdrawn.³ The Department did not receive any comments from interested parties with respect to rescinding the review for these companies. As such, in accordance with 19 CFR 351.213(d)(1), we are rescinding this review with respect to these 78 companies.

³ See Preliminary Results, 77 FR at 61387 and 61389, Appendix III.

Separate Rates

In proceedings involving non-market economy (“NME”) countries, the Department maintains a rebuttable presumption that all companies within the country are subject to government control and, thus, should be assigned a single antidumping duty deposit rate. It is the Department's policy to assign all exporters of subject merchandise in an NME country this single rate unless an exporter can demonstrate that it is sufficiently independent so as to be entitled to a separate rate.⁴

⁴ See Final Determination of Sales at Less Than Fair Value: Sparklers from the People's Republic of China, 56 FR 20588 (May 6, 1991), as amplified by Notice of Final Determination of Sales at Less Than Fair Value: Silicon Carbide from the People's Republic of China, 59 FR 22585 (May 2, 1994); see also 19 CFR 351.107(d).

In the Preliminary Results, we found that Zhongce demonstrated its eligibility for separate-rate status.⁵ No party has placed any evidence on the record of this review to contradict that finding. Therefore, we continue to find that Zhongce is eligible for separate-rate status.

⁵ See Preliminary Results, and accompanying Preliminary Decision Memorandum at 7.

Changes Since the Preliminary Results

Based on an analysis of the comments received, for the final results, the Department made the following change to Zhongce's margin calculation:

• Surrogate Financial Ratios: We have used the 2011 financial statements for Hwa Fong Rubber (Thailand) Public Company Limited and the 2010 financial statements for Goodyear (Thailand) Public Company Limited to calculate average surrogate financial ratios.⁶

⁶ See Memorandum to the File from Andrew Medley, titled “Final Results of the 2010-2011 Administrative Review of the Antidumping Duty Order on Certain New Pneumatic off-The-Road Tires from the People's Republic of China: Surrogate Value Memorandum,” dated April 9, 2013 (“Surrogate Value Memorandum”), and Memorandum to the File from Andrew Medley, titled “2010-2011 Administrative Review of the Antidumping Duty Order on Certain New Pneumatic Off-the-Road Tires from the People's Republic of China: Analysis of the Final Results Margin Calculation for Zhongce,” dated April 9, 2013 (“Zhongce Final Analysis Memorandum”); see also Issues and Decision Memorandum at Comment 6.

• Carbon Black: We have used the Thai import data for “Rubber Grade Carbon Black” to value all carbon black inputs.⁷

⁷ See Surrogate Value Memorandum and Zhongce Final Analysis Memorandum; see also Issues and Decision Memorandum at Comment 5A.

Final Results

We determine that the following weighted-average dumping margin exists for the period September 1, 2010, through August 31, 2011:

OTR Tires From The PRC
Exporter | Weighted- average margin percent
Hangzhou Zhongce Rubber Co., Ltd. | 112.41

Assessment Rates

Pursuant to section 751(a)(2)(A) of the Tariff Act of 1930, as amended (“the Act”), and 19 CFR 351.212(b), the Department will determine, and U.S. Customs and Border Protection (“CBP”) shall assess, antidumping duties on all appropriate entries. The Department intends to issue assessment instructions to CBP 15 days after the date of publication of the final results of review. Pursuant to 19 CFR 351.212(b)(1), we calculated importer-specific (or customer) per unit duty assessment rates based on the ratio of the total amount of the dumping margins calculated for the examined sales to the total sales quantity of those same sales.⁸ In accordance with 19 CFR 351.106(c)(2), we will instruct CBP to liquidate, without regard to antidumping duties, all entries of subject merchandise during the POR for which the importer-specific assessment rate is zero or de minimis.

⁸ In these final results, the Department applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of the final results of this administrative review for all shipments of the subject merchandise entered, or withdrawn from warehouse, for consumption on or after the publication date, as provided for by section 751(a)(2)(C) of the Act: (1) For Zhongce, the cash deposit rate will be the margin listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 210.48 percent determined in the less-than-fair-value investigation; and (4) for all non-PRC exporters of subject merchandise which have not received their own rate, the cash deposit rate will be the rate applicable to the PRC exporter that supplied that non-PRC exporter. These deposit requirements shall remain in effect until further notice.

Notification to Importers

This notice also serves as a final reminder to importers of their responsibility under 19 CFR 351.402(f)(2) to file a certificate regarding the reimbursement of antidumping duties prior to liquidation of the relevant entries during this POR. Failure to comply with this requirement could result in the Secretary's presumption that reimbursement of the antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding, in accordance with 19 CFR 351.224(b).

We are issuing and publishing the final results and notice in accordance with sections 751(a)(1) and 777(i)(1) of the Act.

Dated: April 9, 2013.
Paul Piquado,
Assistant Secretary for Import Administration.

Appendix

Comment 1: Whether to Apply Facts Available to Zhongce's Labor Hours

Comment 2: Whether to Apply Facts Available to Zhongce's Factory Overhead

Comment 3: Whether to Deduct VAT from Export Price

Comment 4: Selection of the Primary Surrogate Country

Comment 5: Selection of Surrogate Values for Certain Material Inputs

A. Carbon Black

B. Bead Wire

C. Nylon Tire Cord

D. Natural Rubber

E. Gap-filling with Data from Another Country

Comment 6: Selection of Surrogate Financial Statements

[FR Doc. 2013-08894 Filed 4-15-13; 8:45 am]

BILLING CODE 3510-DS-P